DEPARTMENT OF THE INTERIOR

Fish and Wildlife Service

50 CFR Part 17

RIN 1018-AU50

Endangered and Threatened Wildlife and Plants; Designation of Critical Habitat for the Laguna Mountains Skipper

AGENCY: Fish and Wildlife Service, Interior.

ACTION: Proposed rule; reopening of public comment period and notice of public hearing.

SUMMARY: We, the U.S. Fish and Wildlife Service (Service), announce the reopening of the public comment period on the proposed rule to designate critical habitat for the Laguna Mountains skipper (Pyrgus ruralis lagunae) under the Endangered Species Act of 1973, as amended (Act). This action will provide all interested parties with an additional opportunity to submit written comments on the proposed designation. Comments previously submitted need not be resubmitted as they have already been incorporated into the public record and will be fully considered in any final decision. We also will hold two public hearings on this proposed designation of critical habitat.

DATES: We will accept comments and information until 5 p.m. on May 15, 2006, or at the public hearings. Any comments received after the closing date may not be considered in the final decision on the proposed designation of critical habitat.

The public hearings will take place on April 27, 2006, from 1 p.m. to 3 p.m. and from 6 p.m. to 8 p.m. in Carlsbad, California.

ADDRESSES: Hearings: The public hearings will be held at the Carlsbad Fish and Wildlife Office, 6010 Hidden Valley Road, Carlsbad, California.

Comments: Written comments and materials may be submitted to us by any one of the following methods:

1. You may submit written comments and information to the Field Supervisor, Carlsbad Fish and Wildlife Office, 6010 Hidden Valley Road, Carlsbad, CA 92011.

2. You may hand-deliver written comments and information to our Office at the above address.

3. You may fax your comments to 760-431-9624.

4. You may send comments by electronic mail (e-mail) to: FW8pchskipper@fws.gov. For directions on how to submit electronic filing of comments, see the “Public Comments Solicited” section below.

5. You may submit comments via the Federal Rulemaking Portal: http://www.regulations.gov. Follow the instructions for submitting comments.

The proposed rule is available on the Internet at http://carlsbad.fws.gov or in hard copy form by contacting the Carlsbad Fish and Wildlife Office. Comments and materials received, as well as supporting documentation used in preparation of the proposed critical habitat rule for the Laguna Mountains skipper, will be available for public inspection, by appointment, during normal business hours at the Carlsbad Fish and Wildlife Office.

FOR FURTHER INFORMATION CONTACT: Field Supervisor, Carlsbad Fish and Wildlife Office, at the above address (telephone 760-431-9440; facsimile 760-431-9624).

SUPPLEMENTARY INFORMATION:

Public Comments Solicited

We intend that any final action resulting from the proposal will be as accurate and as effective as possible. Therefore, we solicit comments or suggestions from the public, other concerned governmental agencies, Tribes, the scientific community, industry, or any other interested parties concerning our proposed designation of critical habitat for the Laguna Mountains skipper. We particularly seek comments concerning:

(1) The reasons why any habitat should or should not be determined to be critical habitat for the Laguna Mountains skipper as provided by section 4 of the Act (16 U.S.C. 1531 et seq.), including whether the benefit of designation will outweigh any threats to the species due to designation;

(2) Specific information on the amount and distribution of Laguna Mountains skipper habitat; which areas should be included in the designation that contain the physical and biological features that are essential to the conservation of the species and why; and which areas not occupied at the time of listing are essential to the conservation of the species and why;

(3) Land use designations and current or planned activities in the subject areas and their possible impacts on proposed critical habitat;

(4) Any foreseeable economic, national security, or other potential impacts resulting from the proposed designation and, in particular, any impacts on small entities; and

(5) Whether our approach to designating critical habitat could be improved or modified in any way to provide for greater public participation and understanding, or to assist us in accommodating public concerns and comments.

Our practice is to make comments, including names and home addresses of respondents, available for public review during regular business hours. Individual respondents may request that we withhold their home address, which we will honor to the extent allowable by law. There also may be circumstances in which we would withhold a respondent's identity, as allowable by law. If you wish us to withhold your name and/or address, you must state this prominently at the beginning of your comment, but you should be aware that the Service may be required to disclose your name and address pursuant to the Freedom of Information Act (5 U.S.C. 552). We will not consider anonymous comments. To the extent consistent with applicable law, we will make all submissions from organizations or businesses, and from individuals identifying themselves as representatives or officials of organizations or businesses, available for public inspection in their entirety. Comments received will be available for public inspection, by appointment, during normal business hours at the Carlsbad Fish and Wildlife Office (see ADDRESSES section).

All previous comments and information submitted during the initial comment period on the proposed rule need not be resubmitted. Please submit electronic comments in ASCII file format, and avoid the use of any special characters or any form of encryption. Also, please include “Attn: RIN 1018-AU50” in the subject line, and your name and return address in your e-mail message. If you do not receive a confirmation from the system that we have received your e-mail message, please contact the Carlsbad Fish and Wildlife Office at telephone number 760/431-9440.

Background

On December 13, 2005, we published a proposed rule in the Federal Register (70 FR 73699) to designate critical habitat for the Laguna Mountains skipper on approximately 6,662 acres (2,696 hectares) of land in two units, divided into a total of seven subunits, on Laguna and Palomar Mountains in San Diego County, California. The initial public comment period for the proposal was open for 60 days, ending February 13, 2006.

Critical habitat identifies specific areas containing features essential to the conservation of a listed species and that may require special management considerations or protection. If the proposed critical habitat designation is finalized, section 7(a)(2) of the Act would require that Federal agencies ensure that actions they fund, authorize, or carry out are not likely to jeopardize the continued existence of the species or result in the destruction or adverse modification of critical habitat.

Section 4(b)(2) of the Act requires that we designate or revise critical habitat on the basis of the best scientific and commercial data available, after taking into consideration economic, and any other relevant, impacts of specifying any particular area as critical habitat.

Public Hearings

Section 4(b)(5)(E) of the Act requires one public hearing be held if any person requests a hearing within 45 days of the publication of a proposed rule. In response to a request from the U.S. Forest Service's Cleveland National Forest, the Service will conduct two public hearings on the date and at the address provided in the DATES and ADDRESSES sections above.

Anyone wishing to make an oral statement for the record is encouraged to provide a written copy of their statement and present it to us at the hearings. In the event there is a large attendance, the time allotted for oral statements may be limited. Oral and written statements receive equal consideration. There are no limits on the length of written comments submitted to us. If you have any questions concerning the public hearings, please contact the Carlsbad Fish and Wildlife Office (see ADDRESSES section).

Persons needing reasonable accommodations in order to attend and participate in the public hearings should contact Patti Carroll at 503-231-2080 as soon as possible. In order to allow sufficient time to process requests, please call no later than one week before the hearing date. Information regarding this notice is available in alternative formats upon request.

Authority

The authority for this action is the Endangered Species Act of 1973 (16 U.S.C. 1531 et seq.).

Dated: April 7, 2006.
Matt Hogan,
Acting Assistant Secretary for Fish and Wildlife and Parks.

[FR Doc. 06-3577 Filed 4-11-06; 10:06 am]

BILLING CODE 4310-55-P